DEPARTMENT OF COMMERCE

National Oceanic and Atmospheric Administration

[RTID 0648-XD507]

Marine Mammals; File No. 26667

AGENCY: National Marine Fisheries Service (NMFS), National Oceanic and Atmospheric Administration (NOAA), Commerce.

ACTION: Notice; receipt of application for permit amendment.

SUMMARY: Notice is hereby given that North Slope Borough Department of Wildlife Management (Taqulik Hepa, Responsible Party), P.O. Box 69, Barrow, AK 99723, has applied for an amendment to scientific research Permit No. 26667-01.

DATES: Written comments must be received on or before December 8, 2023.

ADDRESSES: The application and related documents are available for review by selecting “Records Open for Public Comment” from the “Features” box on the Applications and Permits for Protected Species (APPS) home page, https://apps.nmfs.noaa.gov, and then selecting File No. 26667 from the list of available applications. These documents are also available upon written request via email to NMFS.Pr1Comments@noaa.gov.

Written comments on this application should be submitted via email to NMFS.Pr1Comments@noaa.gov. Please include File No. 26667 in the subject line of the email comment.

Those individuals requesting a public hearing should submit a written request via email to NMFS.Pr1Comments@noaa.gov. The request should set forth the specific reasons why a hearing on this application would be appropriate.

FOR FURTHER INFORMATION CONTACT: Jennifer Skidmore or Shasta McClenahan, Ph.D., (301) 427-8401.

SUPPLEMENTARY INFORMATION: The subject amendment to Permit No. 26667 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226), and the Fur Seal Act of 1966, as amended (16 U.S.C. 1151 et seq.).

Permit No. 26667, issued on September 20, 2022 (87 FR 61573, October 12, 2022), authorizes the permit holder to collect, receive, import, and export biological samples from Alaskan pinnipeds and cetaceans annually for scientific research, including the creation and maintenance of cell lines. The permit holder is requesting the permit be amended to add a new objective for research on parts from cetaceans outside of Alaska. This includes the annual import, export, and receipt of parts from the Eastern Canada-West Greenland stock of bowhead whales (N = 300 animals) and parts from all other cetacean species (N = 1,500 animals).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: November 1, 2023.
Julia M. Harrison,
Chief, Permits and Conservation Division, Office of Protected Resources, National Marine Fisheries Service.

[FR Doc. 2023-24676 Filed 11-7-23; 8:45 am]

BILLING CODE 3510-22-P